NATIONAL INSTITUTE FOR LITERACY

Notice of Consideration of Unsolicited Grant Proposals and Intent To Publish Regulations

AGENCY: National Institute for Literacy.

SUMMARY: The Director provides through this notice information concerning the receipt by the National Institute for Literacy (the Institute) of four unsolicited grant proposals, the process under which the Institute will consider the proposals, the intention of the Institute to publish regulations to govern future grant competitions and consideration of future unsolicited grant proposals, and the intention of the Institute not to accept additional unsolicited grant proposals until final regulations have been published.

FOR FURTHER INFORMATION CONTACT: Elizabeth Hollis, Special Assistant to the Director, National Institute for Literacy, 1775 I Street, NW., Suite 730, Washington, DC 20006-2401, Telephone: (202) 233-2025, or via the Internet: ehollis@nifl.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: The Institute is authorized under 20 U.S.C. 9252(c)(1) to carry out a number of activities to improve and expand the system for the delivery of literacy services. To assist it in carrying out these activities, the Institute may award grants to individuals, public or private institutions, agencies, organizations, or consortia of such institutions, agencies, or organizations (20 U.S.C. 9252(c)(2)). In addition, the Institute is authorized under 20 U.S.C. 6367 to carry out information dissemination responsibilities with respect to scientifically based reading research.

In the past, the Institute, which is administered under the terms of an interagency agreement entered into by the Secretaries of Education, Labor, and Health and Human Services (the Interagency Group), has adopted provisions of the Education Department General Administrative Regulations (EDGAR) for purposes of grant competitions and grant awards. However, the Institute has determined that it would be beneficial for potential grantees to have regulations specifically applicable to the Institute's grants process. The Institute believes that having its own set of regulations would reflect the Institute's purposes more clearly and therefore provide better guidance to potential applicants and improve the overall efficiency and consistency of its grants management process. Therefore, the Institute is currently preparing regulations to govern future grant awards to authorized entities. In the meantime, the Institute has received four unsolicited proposals that are awaiting consideration. The Director does not wish to postpone the consideration of these proposals further; therefore, for the sole purpose of considering these unsolicited proposals, the Director adopts the regulations in part 75 of EDGAR (34 CFR part 75) applicable to unsolicited proposals, including 34 CFR 75.210(b), 75.211, 75.219, and 75.222. Finally, the Director is hereby providing notice that the Institute will accept no further submissions of unsolicited proposals until it has prepared and published final regulations.

Electronic Access to This Document

You may view this document, as well as all other National Institute for Literacy documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 20 U.S.C. 9252.

Dated: June 16, 2006.
Sandra Baxter,
Director, National Institute for Literacy.

[FR Doc. E6-9835 Filed 6-21-06; 8:45 am]

BILLING CODE 6055-01-P